DEPARTMENT OF COMMERCE

Office of Human Resources Management

Commerce Opportunities On-Line (COOL)

ACTION: Proposed collection; Comment request.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before April 23, 2001.

ADDRESSES: Direct all written comments to Madeleine Clayton, Departmental Forms Clearance Officer, Department of Commerce, Room 6086, 14th and Constitution Avenue, NW., Washington, DC 20230 or via the Internet at MClayton@doc.gov.

FOR FURTHER INFORMATION CONTACT: Requests for additional information should be directed to the attention of Thomas R. Kreider, Computer Specialist, (301) 457-6610, U.S. Department of Commerce, Office of Human Resources Management, Office of Employment, Diversity and Classification Programs, 14th & Constitution Ave, NW., Room 5004, Washington, DC 20230, or via e-mail to tkreider@doc.gov.

SUPPLEMENTARY INFORMATION:

Abstract

Commerce Opportunities On-Line (COOL) is a web-based software system that automates the vacancy announcement, application intake, application evaluation, and application referral processes, for positions in the Department of Commerce (DOC).

In the current employment environment qualified job applicants for federal positions are in great demand. The DOC is in direct competition with private industry for the same caliber of candidates with the requisite knowledge and skills to fulfill the mission of the DOC. Consequently, it is imperative that every available technology be employed if the DOC is to remain competitive and meet hiring goals. The information provided by a job applicant will assist the Human Resources Specialists and hiring managers in determining whether an applicant meets the basic qualification requirements and is best qualified for the position being filled. In addition, the electronic transmission will expedite the hiring process by reducing the time used in application evaluation, candidate referral and selection, and in the recruitment paperwork distribution/workflow process.

COOL will provide the DOC with a more user-friendly on-line employment application process and will enable the DOC to process hiring actions in a more efficient and timely manner. The on-line application will provide an electronic real time candidate list that will allow the DOC to review applications from applicants almost instantaneously. Given the immediate hiring needs of the DOC, time consumed in the mail distribution system or paper review of applications delays the decision-making process by several weeks. The implementation of the COOL electronic application will result in increased speed and accuracy in the employment process. It will also streamline labor and reduce costs.

The use of the COOL on-line application fully meets the intent of 5 U.S.C. 2301, which requires that Federal personnel management be implemented consistent with merit system principles.

Since the COOL on-line application will be used as an alternative form of employment application, the collection and use of the information requires Office of Management and Budget (OMB) approval as outlined in Section 6.1 of the Delegated Examining Operations Handbook. The Handbook provides guidance to agencies under a delegated examining authority by the Office of Personnel Management (OPM), under the provisions of 5 U.S.C. 1104.

II. Method of Collection

Application information is collected electronically from the applicant through COOL. Applicants may contact the DOC web site on the Internet where they will find the COOL on-line application and can fill out and submit the form electronically while connected to the web site. Applicants who do not have access to a personal computer are directed to the servicing Human Resources Office for a paper version of the COOL announcement and application.

III. Data

OMB Number: 0690-0019.

Type of Review: Regular collection.

Affected Public: Individuals or households and the Federal Government.

Estimated Number of Respondents: 32,832 respondents per year.

Estimated Time Per Response: It is estimated that, depending on the situation, it could take as little as 10 minutes or as long as two hours to complete the on-line application. This is determined by the nature of the position for which the applicant is applying, and whether this is the applicant's first application in COOL, or if he or she already has a resume completed in COOL, which automatically fills in approximately 75% of the application's fields. On average, the time to complete the on-line application is estimated to be 1 hour.

Estimated Total Annual Respondent Burden Hours: 32,832 hours per year.

Estimated Total Annual Respondent Cost Burden: $820,800 per year.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: February 16, 2001.
Madeleine Clayton,
Departmental Forms Clearance Officer, Office of the Chief Information Officer.

[FR Doc. 01-4389 Filed 2-21-01; 8:45 am]

BILLING CODE 3510-17-P